DEPARTMENT OF ENERGY
Federal Energy Regulatory Commission
[Docket No. CP02-233-001]
Equitrans, L.P.; Notice of Compliance Filing
January 22, 2004.
Take notice that on January 15, 2004, Equitrans, L.P. (Equitrans) tendered for filing as part of its FERC Gas Tariff, Original Volume No. 1, First Revised Sheet No. 0, to become effective on January 1, 2004.
Equitrans states that the foregoing tariff sheet is being filed to comply with the Commission's Order, issued herein on December 31, 2003.
Equitrans further states that its filing is being served on all parties to this proceeding, on all of Equitrans' existing customers, and upon the Pennsylvania Office of Consumer Advocate, Pennsylvania Public Utility Commission and the West Virginia Public Service Commission.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-155 Filed 1-29-04; 8:45 am]
BILLING CODE 6717-01-P